DEPARTMENT OF TRANSPORTATION

Federal Aviation Administration

14 CFR Part 39

[Docket No. FAA-2013-0927; Directorate Identifier 2013-CE-030-AD; Amendment 39-17644; AD 2013-22-12]

RIN 2120-AA64

Airworthiness Directives; DG Flugzeugbau GmbH Gliders

AGENCY: Federal Aviation Administration (FAA), DOT.

ACTION: Final rule; request for comments.

SUMMARY: We are adopting a new airworthiness directive (AD) for all DG Flugzeugbau GmbH Models DG-800A, DG-800B, DG-500MB gliders. This AD results from mandatory continuing airworthiness information (MCAI) issued by the aviation authority of another country to identify and correct an unsafe condition on an aviation product. The MCAI describes the unsafe condition as a defective starter motor control unit, which could activate the starter motor without pressing the starter button. We are issuing this AD to require actions to address the unsafe condition on these products.

DATES: This AD is effective November 18, 2013.

The Director of the Federal Register approved the incorporation by reference of a certain publication listed in this AD as of November 18, 2013.

We must receive comments on this AD by December 23, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact DG-Flugzeugbau GmbH, 76646 Bruchsal, Germany; telephone: +49 7251 3020 140; fax: +49 7251 3020 269; Internet: http://www.dg-flugzeugbau.de/index.php?id=1329; email: dirks@dg-flugzeugbau.de. You may view this referenced service information at the FAA, Small Airplane Directorate, 901 Locust, Kansas City, Missouri 64106. For information on the availability of this material at the FAA, call (816) 329-4148.

Examining the AD Docket

You may examine the AD docket on the Internet at http://www.regulations.gov by searching for and locating it in Docket No. FAA-2013-0927; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

The European Aviation Safety Agency (EASA), which is the Technical Agent for the Member States of the European Community, has issued EASA AD No. 2013-0212, dated September 13, 2013 (referred to after this as “the MCAI”), to correct an unsafe condition for the specified products. The MCAI states:

About 8% of the produced starter motor control units, as installed in DG-800 and DG-500MB powered sailplanes, have reportedly been sent in for repair with a defective starter motor control. Investigation results showed that a short circuit can activate the starter motor without pressing the starter button.

This condition, if not corrected, could cause sudden rotation of the propeller, possibly resulting in injury to the pilot or other persons.

To address the potential unsafe condition, DG-Flugzeugbau issues Technical Note (TN) No. 800/42, 500/06 (single document).

For the reason described above, this AD requires identification and replacement of the affected control units.

You may examine the MCAI on the Internet at http://www.regulations.gov by searching for and locating it in Docket No. FAA-2013-0927.

Relevant Service Information

DG Flugzeugbau GmbH has issued Technical note No. 800/42, 500/06 (co-published as one document), dated May 29, 2013. The actions described in this service information are intended to correct the unsafe condition identified in the MCAI.

FAA's Determination and Requirements of This AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because the starter motor could become activated without pressing the starter button and cause sudden propeller rotation, which could result in injury to the pilot and/or other persons. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0927; Directorate Identifier 2012-CE-030-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 27 products of U.S. registry. We also estimate that it will take about .5 work-hour per product to comply with the basic requirements of this AD. The average labor rate is $85 per work-hour.

Based on these figures, we estimate the cost of this AD on U.S. operators to be $1,147.50, or $42.50 per product.

In addition, we estimate that any necessary follow-on actions will take about 2 work-hours and require parts costing $302, for a cost of $472 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-22-12 DG Flugzeugbau GmbH: Amendment 39-17644; Docket No. FAA-2013-0927; Directorate Identifier 2012-CE-036-AD.

(a) Effective Date

This airworthiness directive (AD) becomes effective November 18, 2013.

(b) Affected ADs

None.

(c) Applicability

This AD applies to DG Flugzeugbau GmbH DG-800A, DG-800B, and DG-500MB gliders, all serial numbers, certificated in any category.

(d) Subject

Air Transport Association of America (ATA) Code 80: Engine Starting.

(e) Reason

This AD was prompted by mandatory continuing airworthiness information (MCAI) originated by an aviation authority of another country to identify and correct an unsafe condition on an aviation product. The MCAI describes the unsafe condition as a defective starter motor control, which could activate the starter motor without pressing the starter button. We are issuing this AD to prevent sudden propeller rotation, which could result in injury to the pilot and/or other persons.

(f) Actions and Compliance

Unless already done, do the actions in paragraphs (f)(1) and (f)(2) of this AD:

(1) Within 10 days after November 18, 2013 (the effective date of this AD), inspect to determine if an unmodified starter control unit is installed. If an unmodified starter control unit is installed, remove the unit and replace it with a modified unit. Do the removal and replacement following the Instructions section of DG Flugzeugbau GmbH Technical note No. 800/42, 500/06 (co-published as one document), dated May 29, 2013.

(2) As of November 18, 2013 (the effective date of this AD), do not install any starter motor control unit unless it has been modified and labeled with placard “MS.”

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2013-0212, dated September 13, 2013, for related information. You may examine the MCAI on the Internet at http://www.regulations.gov by searching for and locating it in Docket No. FAA-2013-0927. For service information related to this AD, contact DG-Flugzeugbau GmbH, 76646 Bruchsal, Germany; telephone: +49 7251 3020 140; fax: +49 7251 3020 269; Internet: http://www.dg-flugzeugbau.de/index.php?id=1329; email: dirks@dg-flugzeugbau.de. You may review copies of the referenced service information at the FAA, Small Airplane Directorate, 901 Locust, Kansas City, Missouri 64106. For information on the availability of this material at the FAA, call (816) 329-4148.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) DG Flugzeugbau GmbH Technical note No. 800/42, dated May 29, 2013.

(ii) DG Flugzeugbau GmbH Technical note No. 500/06, dated May 29, 2013.

Note 1 to paragraph (i)(2): DG Flugzeugbau GmbH Technical note No. 800/42, dated May 29, 2013, and DG Flugzeugbau GmbH Technical note No. 500/06, dated May 29, 2013, are co-published as one document.

(3) For DG-Flugzeugbau GmbH service information identified in this AD, contact DG-Flugzeugbau GmbH, 76646 Bruchsal, Germany; telephone: +49 7251 3020 140; fax: +49 7251 3020 269; Internet: http://www.dg-flugzeugbau.de/index.php?id=1329; email: dirks@dg-flugzeugbau.de.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on October 24, 2013.
Earl Lawrence,
Manager, Small Airplane Directorate, Aircraft Certification Service.

[FR Doc. 2013-25955 Filed 11-7-13; 8:45 am]

BILLING CODE 4910-13-P